DEPARTMENT OF TRANSPORTATION

Office of the Secretary

Aviation Proceedings, Agreements Filed the Week Ending April 17, 2010

The following Agreements were filed with the Department of Transportation under the sections 412 and 414 of the Federal Aviation Act, as amended (49 U.S.C. 1382 and 1384) and procedures governing proceedings to enforce these provisions. Answers may be filed within 21 days after the filing of the application.

Docket Number: DOT-OST-2010-0098.

Date Filed: April 16, 2010.

Parties: Members of the International Air Transport Association.

Subject:

CSC/32/Meet/006/2010 dated 9 April 2010.

Expedited Finally Adopted Resolutions: 600b, 600f, 600g, 600h,601, 607, 660, 670, and 683, and Recommended Practices

1650, 1675 and 1676.

Intended effective date: 1 July 2010.

Renee V. Wright,
Program Manager, Docket Operations, Federal Register Liaison.

[FR Doc. 2010-10098 Filed 4-29-10; 8:45 am]

BILLING CODE 4910-9X-P